FEDERAL EMERGENCY MANAGEMENT AGENCY

44 CFR Part 67

Final Flood Elevation Determinations

AGENCY: Federal Emergency Management Agency (FEMA).

ACTION: Final rule.

SUMMARY: Base (1% annual chance) flood elevations and modified base flood elevations are made final for the communities listed below. The base flood elevations and modified base flood elevations are the basis for the floodplain management measures that each community is required either to adopt or to show evidence of being already in effect in order to qualify or remain qualified for participation in the National Flood Insurance Program (NFIP).

EFFECTIVE DATE: The date of issuance of the Flood Insurance Rate Map (FIRM) showing base flood elevations and modified base flood elevations for each community. This date may be obtained by contacting the office where the FIRM is available for inspection as indicated in the table below.

ADDRESSES: The final base flood elevations for each community are available for inspection at the office of the Chief Executive Officer of each community. The respective addresses are listed in the table below.

FOR FURTHER INFORMATION CONTACT: Matthew B. Miller, P.E., Chief, Hazards Study Branch, Mitigation Directorate, 500 C Street SW., Washington, DC 20472, (202) 646-3461, or (e-mail) matt.miller@fema.gov.

SUPPLEMENTARY INFORMATION: The Federal Emergency Management Agency makes final determinations listed below of base flood elevations and modified base flood elevations for each community listed. The proposed base flood elevations and proposed modified base flood elevations were published in newspapers of local circulation and an opportunity for the community or individuals to appeal the proposed determinations to or through the community was provided for a period of ninety (90) days. The proposed base flood elevations and proposed modified base flood elevations were also published in the Federal Register.

This final rule is issued in accordance with Section 110 of the Flood Disaster Protection Act of 1973, 42 U.S.C. 4104, and 44 CFR part 67.

FEMA has developed criteria for floodplain management in floodprone areas in accordance with 44 CFR part 60.

Interested lessees and owners of real property are encouraged to review the proof Flood Insurance Study and FIRM available at the address cited below for each community.

The base flood elevations and modified base flood elevations are made final in the communities listed below. Elevations at selected locations in each community are shown.

National Environmental Policy Act. This rule is categorically excluded from the requirements of 44 CFR part 10, Environmental Consideration. No environmental impact assessment has been prepared.

Regulatory Flexibility Act. The Associate Director for Mitigation certifies that this rule is exempt from the requirements of the Regulatory Flexibility Act because final or modified base flood elevations are required by the Flood Disaster Protection Act of 1973, 42 U.S.C. 4104, and are required to establish and maintain community eligibility in the NFIP. No regulatory flexibility analysis has been prepared.

Regulatory Classification. This final rule is not a significant regulatory action under the criteria of section 3(f) of Executive Order 12866 of September 30, 1993, Regulatory Planning and Review, 58 FR 51735.

Executive Order 12612, Federalism. This rule involves no policies that have federalism implications under Executive Order 12612, Federalism, dated October 26, 1987.

Executive Order 12778, Civil Justice Reform. This proposed rule meets the applicable standards of section 2(b)(2) of Executive Order 12778.

List of Subjects in 44 CFR Part 67

Administrative practice and procedure, Flood insurance, Reporting and recordkeeping requirements.

Accordingly, 44 CFR part 67 is amended to read as follows:

PART 67—[AMENDED]

1. The authority citation for part 67 continues to read as follows:

Authority: 42 U.S.C. 4001 et seq.; Reorganization Plan No. 3 of 1978, 3 CFR, 1978 Comp., p. 329; E.O. 12127, 44 FR 19367, 3 CFR, 1979 Comp., p. 376.

§ 67.11 [Amended]

2. The tables published under the authority of § 67.11 are amended as follows:

Source of flooding and location | # Depth in feet above ground. *Elevation in feet (NGVD).
CALIFORNIA
Solano County (Unincorporated Areas) (FEMA Docket No. B-7401)
Gibson Canyon Creek:
Approximately 2,250 feet downstream of Byrnes Road | *69
Approximately 100 feet upstream of Browns Valley Road | *143
South Branch Gibson Canyon Creek:
Just downstream of Crocker Drive | *102
Just upstream of Browns Valley Road | *142
Horse Creek:
Approximately 500 feet downstream of Willow Avenue | *77
Approximately 1,500 feet upstream of Willow Avenue | *79
Maps are available for inspection at Solano County Department of Environmental Management, 601 W. Texas Street, Fairfield, California.
———
City of Vacaville, Solano County (FEMA Docket No. B-7401)
Gibson Canyon Creek:
Approximately 2,100 feet downstream of Interstate Highway 80 (Eastbound) | *78
Approximately 1,200 feet upstream of Eubanks Road | *113
South Branch Gibson Canyon Creek:
At confluence with Gibson Canyon Creek | *98
At intersection with Interstate Highway 505 | *103
Approximately 500 feet upstream of Eubanks Road | *121
Horse Creek:
Approximately 800 feet downstream of Leisure Town Road | *82
Approximately 2,000 feet upstream of Sewer Maintenance Road | *137
Middle Branch Horse Creek:
Just upstream of Interstate Highway 80 | *91
Approximately 2,200 feet upstream of Interstate Highway 505 | *112
Pine Tree Creek:
At confluence with Horse Creek | *97
At upstream side of Putah South Canal | *122
Just downstream of Browns Valley Road | *136
At Browns Valley Road Crossing of Southern Pacific Railroad | #2
South Branch Horse Creek:
At confluence with Horse Creek | *114
Just downstream of Southern Pacific Railroad | *134
Just downstream of Sundance Drive | # 2
Middle Swale to South Branch Horse Creek:
At confluence with South Branch Horse Creek | *122
Just downstream of Southern Pacific Railroad | *131
Just upstream of Southern Pacific Railroad | # 1
North Branch Horse Creek:
At confluence with Horse Creek | *83
At downstream side of Interstate Highway 80 | *88
Pine Tree Creek Split:
At convergence with Pine Tree Creek | *122
Approximately 1,100 feet upstream of convergence with Pine Tree Creek | *125
Maps are available for inspection at the Vacaville City Hall, 650 Merchant Street, Vacaville, California.
COLORADO
City of Durango, La Plata County (FEMA Docket No. B-7401)
Animas River:
Approximately 0.67 mile downstream of U.S. Highway 155/160 | *6,375
Approximately 3.56 miles upstream of 32nd Street | *6,551
Dry Gulch:
Approximately 1,500 feet upstream of confluence with Junction Creek | *6,628
Approximately 5,670 feet upstream of Borrego Drive | *6,873
Lightner Creek:
At confluence with Animas River | *6,485
Approximately 1,800 feet upstream of confluence with Animas River | *6,513
Maps are available for inspection at the Planning Department, 1235 Camino Del Rio, Durango, Colorado.
———
La Plata County (Unincorporated Areas) (FEMA Docket No. B-7401)
Animas River:
Approximately 2.09 miles downstream of U.S. Highway 155/160 | *6,337
Approximately 2.8 miles upstream of 32nd Street | *6,548
Approximately 3.56 miles upstream of 32nd Street | *6,551
Lightner Creek:
At confluence with Animas River | *6,484
Approximately 3,525 feet upstream of U.S. Highway 160 | *6,699
Maps are available for inspection at the Building Department, 1060 E. 2nd Avenue, Durango, Colorado.
KANSAS
City of Augusta, Butler County (FEMA Docket No. B-7401)
Elm Creek (above Augusta Lake):
At mouth at Augusta Lake | *1,263
Approximately 1,900 feet upstream of Augusta Lake Road | *1,269
Maps are available at City Hall, 116 East Sixth Street, Augusta, Kansas.
NEW MEXICO
City of Raton, Colfax County (FEMA Docket No. B-7401)
Raton Creek:
Approximately 3,360 feet downstream of Frontage Road | *6,541
Approximately 1,560 feet upstream of North Second Street | *6,705
Middle Creek:
Approximately 600 feet downstream of Interstate Highway 25 | *6,527
At Atchison, Topeka and Santa Fe Railway Crossing | *6,633
South Creek:
Approximately 900 feet upstream of confluence with Middle Creek | *6,520
Approximately 120 feet upstream of South Second Street (U.S. Highway 85) | *6,552
Maps are available for inspection at the City Engineer's office, City Hall, 224 Savage Avenue, Raton, New Mexico.
SOUTH DAKOTA
City of Deadwood, Lawrence County (FEMA Docket No. B-7401)
Whitewood Creek:
Approximately 800 feet downstream of U.S. Highway 14-A | *4,394
Approximately 550 feet downstream of U.S. Highway 85 | *4,642
Deadwood Creek:
Approximately 1,225 feet upstream of Shine Street | None
Just upstream of U.S. Highway 14-A | *4,640
Approximately 1,550 feet upstream of U.S. Highway 14-A | *4,658
Spring Creek:
At upstream end of culvert, approximately 400 feet upstream of North Williams Street | *4,580
At western corporate limit, approximately 2,600 feet upstream of North Williams Street | *4,753
Maps are available for inspection at 102 Sherman Street, Deadwood, South Dakota.
TEXAS
City of Huntsville, Walker County (FEMA Docket No. B-7401)
Alligator Branch:
Approximately 4,200 feet upstream of confluence with Prairie Branch | *307
Approximately 7,400 feet upstream of confluence with Prairie Branch | *323
Baldwin Creek:
Approximately 36,500 feet above confluence with Nelson Creek | *244
Approximately 43,500 feet above confluence with Nelson Creek | *261
Caney Creek:
Approximately 1,900 feet upstream of confluence with Winters Bayou | *354
Approximately 24,000 feet upstream of confluence with Winters Bayou | *374
Crabb Creek:
Approximately 17,400 feet upstream of confluence with Nelson Creek | *257
Approximately 27,100 feet upstream of confluence with Nelson Creek | *287
East Fork:
At confluence with Tanyard Branch | *271
Approximately 5,500 feet upstream of confluence with Tanyard Branch | *298
Ford Branch:
At confluence with Wayne Creek | *272
Approximately 2,700 feet upstream of confluence with Wayne Creek | *286
Hadley Creek:
At Rosenwall Road | *250
Approximately 200 feet north of Huntsville Airport Runway | *292
Horse Branch:
At its confluence with Town Branch | *274
Approximately 450 feet downstream of FM 2821 | *285
Approximately 3,500 feet upstream of Holly Bend Road | *329
Mays Creek:
Approximately 2,600 feet upstream of confluence of Shepherd Creek | *320
Approximately 13,400 feet upstream of confluence of Shepherd Creek | *355
McDonald Creek:
Approximately 2,300 feet downstream of Sunset Lake Dam | *293
Approximately 1,900 feet upstream of Spring Lake Dam | *376
McGary Creek:
Approximately 8,050 feet downstream of confluence with Tributary 6 | *279
Approximately 9,700 feet upstream of confluence with Tributary 5 | *351
Parker Creek:
Approximately 10,500 feet upstream of confluence with harmon Creek | *212
Approximately 1,000 feet upstream of FM 247 | *279
Prairie Branch:
Approximately 14,800 feet upstream of confluence with East Sandy Creek | *287
Approximately 800 feet upstream of Broadmoor Drive | *368
Robinson Creek:
Approximately 4,700 feet downstream of confluence with Tributary 4 | *283
Approximately 16,350 feet upstream of confluence with Tributary 4 | *362
Shepherd Creek:
Approximately 3,700 feet upstream of confluence of Mays Creek | *317
Approximately 7,150 feet upstream of confluence with Tributary 3 | *381
Sixmile Branch:
Approximately 400 feet downstream of confluence with Thompson Branch | *253
Approximately 1,400 feet upstream of confluence with Thompson Branch | *261
Tanyard Branch:
Approximately 500 feet upstream of confluence with Harmony Creek | *224
Approximately 2,600 feet upstream of State Highway 190 | *363
Thompson Branch:
At confluence with Sixmile Branch | *254
Approximately 1,000 feet upstream of confluence with Sixmile Branch | *260
Town Branch:
At confluence with Parker Creek | *260
Approximately 700 feet upstream of Avenue J and 14th Street | *361
Tributary A:
At confluence with Town Branch | *322
Approximately 280 feet upstream of its confluence with Town Branch | *324
Approximately 300 feet upstream of State Highway 30/190 | *338
Tributary B:
At confluence with Horse Branch | *307
Approximately 800 feet upstream of Private Dam | *327
Tributary 2:
At confluence with Tanyard Branch | *225
Approximately 1,250 feet upstream of Robinson Road | *253
Tributary 3:
At confluence with Shepherd Creek | *358
Approximately 1,700 feet upstream of confluence with Shepherd Creek | *364
Tributary 4:
At confluence with Robinson Creek | *293
Approximately 7,800 feet upstream of confluence with Robinson Creek | *330
Tributary 5:
At confluence with McGary Creek | *319
Approximately 7,600 feet upstream of confluence with McGary Creek | *347
Tributary 6:
At confluence with McGary Creek | *292
Approximately 10,500 feet upstream of confluence with McGary Creek | *319
Tributary 7:
Approximately 14,800 feet upstream of confluence with Hadley Creek | *256
Approximately 20,400 feet upstream of confluence with Hadley Creek | *275
Tributary 8:
Approximately 3,700 feet upstream of confluence with Parker Creek | *217
Approximately 8,000 feet upstream of confluence with Parker Creek | *231
Tributary 9:
At confluence with Shepherd Creek | *332
Approximately 6,700 feet upstream of confluence with Shepherd Creek | *347
Wayne Creek:
Approximately 2,100 feet upstream of confluence with Harmony Creek | *259
Approximately 12,600 feet upstream of confluence with Harmony Creek | *298
Maps are available for inspection at City Service Center, 448 Highway 75 North, Huntsville, Texas.

(Catalog of Federal Domestic Assistance No. 83.100, “Flood Insurance.”)

Dated: December 6, 2000.
Michael J. Armstrong,
Associate Director for Mitigation.

[FR Doc. 00-32213 Filed 12-20-00; 8:45 am]

BILLING CODE 6718-04-P